HARRY S. TRUMAN SCHOLARSHIP FOUNDATION

Sunshine Act Meeting

Meeting of the Trustees and Officers of the Harry S. Truman Scholarship Foundation

October 25, 2005, 3 p.m.-5 p.m., U.S. Capitol, Room HC-8

I. Welcome and Opening Comments

II. Approval of the Minutes of the Meeting of September 24, 2004

III. Report from the President

IV. Report from the Executive Secretary

V. Report on 2005 Summer Institute, 2005/2006 Truman Fellows Program

VI. Approval of Budget for FY 2006

VII. Appointment of an Executive Secretary

VIII. Old Business

IX. New Business

X. Adjournment

Louis H. Blair,
Executive Secretary.

[FR Doc. 05-19892 Filed 9-29-05; 3:14 pm]

BILLING CODE 6820-AD-P